DEPARTMENT OF THE TREASURY

Submission for OMB Review; Comment Request

September 22, 2014.

The Department of the Treasury will submit the following information collection requests to the Office of Management and Budget (OMB) for review and clearance in accordance with the Paperwork Reduction Act of 1995, Public Law 104-13, on or after the date of publication of this notice.

DATES: Comments should be received on or before October 27, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Alcohol and Tobacco Tax and Trade Bureau (TTB)

OMB Number: 1513-0019.

Type of Review: Revision of a currently approved collection.

Title: Application for Amended Basic Permit under the Federal Alcohol Administration Act.

Form: TTB F 5100.18.

Abstract: TTB F 5100.18 is completed by permittees who change their operations in a manner that requires a new permit or receive a new notice. The information allows TTB to identify the permittee, the changes to the permit or business, and to determine whether the applicant still qualifies for a basic permit.

Affected Public: Private sector: Businesses or other for-profits.

Estimated Annual Burden Hours: 1,255.

OMB Number: 1513-0054.

Type of Review: Extension without change of a currently approved collection.

Title: Offer in Compromise of liability incurred under the provisions of Title 26 U.S.C. enforced and administered by TTB; Collection Information Statement (CIS) for Individuals; CIS for Businesses.

Form: TTB F 5640.1, 5600.17, and 5600.18.

Abstract: TTB F 5640.1 is used by persons who wish to compromise criminal and/or civil penalties for violations of the IRC. If accepted, the offer in compromise is a settlement between the government and the party in violation in lieu of legal proceedings or prosecution. If the party is unable to pay the offer in full, TTB F 5600.17 and 5600.18 are used to gather financial information to develop an installment agreement to allow the party to pay without incurring a financial hardship.

Affected Public: Private sector: Businesses or other for-profits; individuals or households.

Estimated Annual Burden Hours: 140.

OMB Number: 1513-0073.

Type of Review: Extension without change of a currently approved collection.

Title: Manufacturers of Nonbeverage Products—Records to Support Claims for Drawback, TTB REC 5530/2.

Abstract: Records required to be maintained by manufacturers of nonbeverage products are used to prevent diversion of drawback spirits to beverage use. The records are necessary to maintain accountability over these spirits. The records make it possible to trace spirits using audit techniques, thus enabling TTB officers to verify the amount of spirits used in nonbeverage products and subsequently claimed as eligible for drawback of tax. The record retention requirement for this information collection is 3 years.

Affected Public: Private sector: Businesses or other for-profits.

Estimated Annual Burden Hours: 10,521.

OMB Number: 1513-0075.

Type of Review: Extension without change of a currently approved collection.

Title: Proprietors or Claimants Exporting Liquors, TTB REC 5900/1.

Abstract: Distilled spirits, wine, and beer may be exported from bonded premises without payment of excise taxes, or, they may be exported if their taxes have been paid and the exporters may claim drawback of the taxes paid. The recordkeeping requirement makes it possible to trace movement of distilled spirits, wine, and beer, thus enabling TTB officers to verify the amount of these liquors eligible for exportation without payment of tax or exportation subject to drawback.

Affected Public: Private sector: Businesses or other for-profits.

Estimated Annual Burden Hours: 7,200.

OMB Number: 1513-0099.

Type of Review: Extension without change of a currently approved collection.

Title: Administrative Remedies—Closing Agreements.

Abstract: This is a written agreement between TTB and regulated taxpayers used to finalize and resolve certain tax-related issues. Once an agreement is approved, it will not be reopened unless fraud or misrepresentation of material facts is proven.

Affected Public: Private sector: Businesses or other for-profits.

Estimated Annual Burden Hours: 1.

OMB Number: 1513-NEW.

Type of Review: New collection.

Title: Continuing Export Bond for Distilled Spirits and Wine.

Form: 5100.25.

Abstract: A specific bond on TTB F 5100.25 must be filed by the exporter, as provided in § 28.61, if a specific lot of distilled spirits or wine is to be withdrawn without payment of tax, as authorized in § 28.91(a)(1), (2), (3), (5), or § 28.121(a), (b), (c), or (d), by a person other than the proprietor of the bonded premises.

Affected Public: Private sector: Businesses or other for-profits.

Estimated Annual Burden Hours: 2.

Dawn D. Wolfgang,
Treasury PRA Clearance Officer.

[FR Doc. 2014-22810 Filed 9-24-14; 8:45 am]

BILLING CODE 4810-31-P